DEPARTMENT OF HEALTH AND HUMAN SERVICES

Request for Applications for the National Centers of Excellence in Women's Health (CoE) and the National Community Centers of Excellence in Women's Health (CCOE)—Ambassadors for Change Program

AGENCY: Department of Health and Human Services, Office of the Secretary, Office of Public Health and Science.

ACTION: Notice.

Announcement Type: Competitive Cooperative Agreement—FY 2005 Initial announcement.

Funding Opportunity Number: Not applicable.

Catalog of Federal Domestic Assistance: The Catalog of Federal Domestic Assistance number is 93.013.

Authority: This program is authorized by 42 U.S.C. 300u-2(a).

DATES: To receive consideration applications must be received by the Office of Grants Management, Office of Public Health and Science (OPHS), Department of Health and Human Services (DHHS), no later than 5 p.m. eastern daylight time no later than July 25, 2005.

SUMMARY: The National Centers of Excellence in Women's Health and the National Community Centers of Excellence in Women's Health programs provide funding to academic health centers and community-based organizations to enhance their women's health program through the integration of these components: (1) Leadership development for women, (2) training for lay, allied health, and professional health care providers, (3) public education and outreach with special emphasis on outreach to minority women, (4) comprehensive health service delivery that includes gender and age-appropriate preventive services and allied health professionals as members of the comprehensive care team, and (5) basic science, clinical and community-based research. In addition, the community centers must replicate their National Community Center of Excellence in Women's Health (CCOE) model in another community.

I. Funding Opportunity Description

The goals of the Ambassador for Change program are to:

1. Increase the number of health professionals, including allied health professionals, trained to work with underserved and diverse women and to increase their leadership and advocacy skills.

2. Increase the number of women, especially American Indian or Alaska Native, Black or African American, Hispanic or Latino, Asian, or Native Hawaiian or Other Pacific Islander who pursue health careers and increase the leadership skills and opportunities for women in the community and for women faculty in academic settings.

3. Eliminate health disparities for women who are underserved due to age, gender, race/ethnicity, education, income, or disability.

4. Reduce the fragmentation of women's health services and access barriers by using a framework that coordinates and integrates comprehensive health services. Comprehensive health services include gender and age-appropriate preventive services and allied health professionals on the service delivery team.

5. Increase the women's health knowledge base by conducting gender-based research and by involving the community in identifying and conducting research related to and responsive to the health needs and issues of concern to underserved and minority women in the target community.

6. Empower women, especially underserved and minority women, as health care consumers and decision-makers.

The primary purpose of the CoE/CCOE—Ambassadors for Change program is the continuation of the “one-stop shopping” or “centers without walls” models of women's health care that have been developed by these organizations at a new, more progressive and focused leadership level, and the provision of advice and guidance to other organizations interested in developing or implementing these unique models of care. The success of these programs, the expertise of the Centers' staff, and the pool of diverse women who may be available to participate in research, including, e.g., improving health education material to their communities, behavior studies, clinical trials, make these centers a valuable resource to the OWH and other agencies within the Department.

The Ambassadors for Change must continue to: (1) Develop and/or strengthen a framework to bring together a comprehensive array of services for women; (2) train a cadre of diverse health care providers that include allied health professionals and community health workers; (3) promote leadership/career development for diverse women in the health professions, including allied health professions and community health workers, and women/girls in the community; (4) enhance public education and outreach activities in women's health with an emphasis on gender-specific and age-appropriate prevention and/or reduction of illness or injuries that appear controllable through increased knowledge that leads to a modification of behavior; (5) participate in any national evaluation of the CoE and/or CCOE program; (6) conduct basic, clinical and community-based research in women's health; (7) conduct process, impact, and outcome evaluations of their program; and (8) provide advice and guidance to other organizations interested in learning more about the OWH CoE and CCOE programs.

At a minimum, each Ambassador for Change awardee must maintain a physically-identifiable clinical care center for the delivery of comprehensive, interdisciplinary health care that includes gender and age-appropriate preventive services for women. The clinical care center must have permanent signage that identifies it as a National Center of Excellence in Women's Health or a National Community Center of Excellence in Women's Health supported by the U.S. Department of Health and Human Services. The clinical care center must be devoted to women-friendly, women-centered, women-relevant care delivered from a multidisciplinary, holistic, and culturally and linguistically appropriate perspective. The clinical care center must also have a women's health clinical intake form, referral and tracking system, and procedures for identifying and counting the women served by the program and for tracking the cost of services provided to women who receive interdisciplinary care through the program. Sites must be able to differentiate the care provided to women counted as CoE or CCOE patients compared to other patients.

II. Award Information

The CoE/CCOE—Ambassadors for Change program will be supported through the cooperative agreement mechanism. Using this mechanism, the OWH anticipates making up to six new 3-year awards in FY 2005. The anticipated start date for new awards is September 30, 2005, and the anticipated period of performance is September 30, 2005, through September 29, 2008. Approximately $225,000 is available to make awards between $25,000-$50,000 total cost (direct and indirect) for a 12-month budget period. The total amount that may be requested by academic health centers is $25,000 and the total amount that may be requested by community-based organizations is $50,000. (Note: Noncompeting continuation awards (up to the maximum total cost allowed for each type of organization per year) will be made subject to satisfactory performance and availability of funds.)

CoE/CCOE—Ambassadors for Change programs will continue to be recognized by the OWH as National Centers of Excellence in Women's Health and National Community Centers of Excellence in Women's Health with all the privileges granted these programs by the OWH. As such, the Ambassadors for Change will continue to attend the CoE/CCOE Center Directors' meetings, have the opportunity to participate in joint projects initiated and funded by the OWH, remain on the list serve to continue to have access to information and funding opportunities, be a full-participating member of the CoE/CCOE Research Coordinating Center (if applicable), be site visited as needed, be listed on the OWH Web site with links to their CoE/CCOE Web site, and have their products/activities listed on the virtual resource center.

Under previous program announcements, the OWH funded three new CCOE programs in FY 2000. These are the CCOE programs eligible to apply for this award. The OWH also funded four new CCOE programs in FY 2001, five new programs in FY 2002, and two new programs in 2004. A total of 14 CCOE programs have been funded to date.

Under the contract mechanism, the OWH also funded six new CoEs in 1996. The three whose options years were renewed through September 2005 are eligible to apply for this award. The OWH also is currently funding 18 additional CoEs: Four funded since 1997, five funded since 1998, six funded since 2003 and three funded since 2004.

The OWH will provide the technical assistance and oversight necessary for the implementation, conduct, and assessment of the Ambassador for Change program activities.

The applicant shall:

1. Implement the program described in the application.

2. Conduct a process, impact, and outcome evaluation of their program.

3. Participate in and pay for attendance at the two annual meetings of the CoE and CCOE Center Directors and the joint CoE/CCOE Center Directors' meetings.

4. Participate in any national evaluations of the CoE and CCOE programs following the guidance provided by the OWH contractor.

5. Maintain the CoE or CCOE Web site.

6. Display permanent signage designating the facility as a National Center of Excellence in Women's Health or National Community Center of Excellence in Women's Health.

7. Participate in special meetings (i.e., CoE/CCOE Working Group meetings) and projects/funding opportunities identified and/or offered by the OWH.

8. Adhere to all program requirements specified in the Notice of Grant Award.

9. Submit required annual technical and financial reports by the due dates stated in this announcement and the Notice of Grant Award. The technical report must include a discussion of the process, impact, and outcome evaluation of their program.

10. Participate in the projects of the Research Coordinating Center (if applicable).

The Federal Government will:

1. Participate in at least two annual meetings with the CoE/CCOE Center Directors and/or Program Coordinators.

2. Participate in a national evaluation of the CoE or CCOE programs using guidance provided by the OWH contractor.

3. Review and decide on requested project modifications.

4. Site visit CoE/CCOE facilities, as needed.

5. Review all reports submitted by the grantees.

6. Facilitate review and clearance of all Center publications to insure adherence to DHHS policies.

The DHHS is committed to achieving the health promotion and disease prevention Objectives of Healthy People 2010 and the HealthyUS Initiative. Emphasis will be placed on aligning the CoE/CCOE—Ambassadors for Change activities and programs with the DHHS Secretary's four priority areas—heart disease, cancer, diabetes, and HIV/AIDS with an increased emphasis on adolescents, elderly women, mental health, and violence against women—and with the Healthy People 2010: Goal 2—eliminating health disparities due to age, gender, race/ethnicity, education, income, disability, or living in rural localities. More information on the Healthy People 2010 objectives may be found on the Healthy People 2010 Web site: http://www.health.gov/healthypeople Another reference is the Healthy People 2000 Review—1998-99. One free copy may be obtained from the National Center for Health Statistics (NCHS), 6525 Belcrest Road, Room 1064, Hyattsville, MD 20782 or telephone (301) 458-4636 (DHHS Publication No. (PHS) 99-1256). This document may also be downloaded from the NCHS Web site: http://www.cdc.gov/nchs. Also, Steps to a HealthierUS, a program of the Department to help implement the Healthy U.S. initiative, advances the goal of helping Americans live longer, better, and healthier lives. It lays out DHHS priorities and programs for Steps to a HealthierUS, focusing attention on the importance of prevention and promising approaches for promoting healthy environments.

III. Eligibility Information

1. Eligible Applicants. Eligible applicants are OWH funded National Centers of Excellence in Women's Health (CoE) whose funding ends in September 2005 without remaining option years and National Community Centers of Excellence in Women's Health (CCOE) programs whose funding ends in September 2005.

2. Cost Sharing or Matching Funds. Cost sharing, matching funds, and cost participation is not a requirement of this grant.

IV. Application and Submission Information

1. Address to Request Application Package: Application kits may be requested by calling (301) 594-0758 or writing to Ms. Karen Campbell, Director, Office of Grants Management, Office of Public Health and Science, Department of Health and Human Services, 1101 Wootten Parkway, Suite 550, Rockville, MD 20852. Applications must be prepared using Form OPHS-1.

2. Content and Form of Application and Submission: At a minimum, each application for a cooperative agreement grant funded under this announcement must:

• Present a plan to continue integrating all components of the program. The CCOEs are not required to continue the replication component but preference will be given to programs that plan to continue to provide technical assistance to their replication site. Additionally, CCOEs that actively participate in the Research Coordinating Center (RCC) projects will be considered as fulfilling the requirements for the research component. A statement of willingness to participate in the RCC activities must be included in the application, if applicable.

• Discuss a plan to continue the involvement of the CoE or CCOE advisory board and their role as it relates to the Ambassadors for Change program.

• Be a sustainable organization capable of providing coordinated and integrated women's health services in the targeted community. The applicant will need to define the components of comprehensive, multi-disciplinary care, demonstrate that they are culturally, linguistically, and gender and age appropriate, and show that they have a clear and sustainable framework for providing those services.

• Present a plan to provide support, advice, and guidance to CoEs, CCOEs, and the Demonstration CoEs, through a variety of training opportunities, such as the ELAM program, promotoras trainings, discussions at Center Directors' meetings, etc. These activities may be supported by outside funding or sponsors in keeping with the government partnership ethics guidance.

• If applicable, detail/specify the roles and resources/services that each partner organization bring to the program, the duration and terms of agreement as confirmed by a signed agreement between the applicant organization and each partner, and describe how the partner organizations will operate within the Ambassador for Change structure. (For the CCOEs only: The partnership agreement(s) must name the individual who will work with the Ambassador program, describe their function, and state their qualifications. The documents, specific to each organization (form letters are not acceptable), must be signed by individuals with the authority to represent and bind the organization and be submitted as part of the grant application.)

• Describe in detail plans for the local process, impact, and outcome evaluation of the program and how information obtained from the evaluation will be used to enhance the program. The applicant must also indicate their willingness to participate in a national evaluation of the program to be conducted under the leadership of the OWH contractor.

The Project Narrative must not exceed a total of 20 double-spaced pages, excluding the appendices. The original and each copy must be stapled and/or otherwise securely bound. The application should be organized in accordance with the format presented in the Program Guidelines. An outline for the minimum information to be included in the “Project Narrative” section is presented below. Applicants must pay particular attention to structuring the narrative to respond clearly and fully to each review Factor and associated review criteria.

I. Background

A. Overview of CoE/CCOE program

B. Primary area(s) of expertise to be offered through the Ambassadors for Change program

C. Goal and purpose of the program

II. Implementation Plan

A. Describe the level of effort to be maintained for the CoE/CCOE program components

B. Describe how will the components be integrated with a reduced level of activity

C. Describe plans to provide support, advice, and guidance to the CoEs, CCOEs, and Demonstration CoEs

III. Management Plan

A. Key project staff, their resumes, and a staffing diversity chart for budgeted staff and those affiliated with the new CoE/CCOE Ambassador for Change program

B. Staff responsibilities

C. CoE or CCOE Advisory Board

IV. Local CoE or CCOE Evaluation Plan

A. Purpose

B. Design/methodology

C. Use of results

Appendices

A Required Forms (Assurance of Compliance Form, etc.)

B. Key Staff Resumes

C. Staffing Diversity Chart

D. Other attachments

3. Submission Dates and Times. To be considered for review, applications must be received by the Office of Grants Management, Office of Public Health and Science, by 5 p.m. eastern daylight time on July 25, 2005. Applications will be considered as meeting the deadline if they are received on or before the deadline date. The application due date requirement in this announcement supercedes the instructions in the OPHS-1.

Applicants are required to submit an original ink-signed and dated application and photocopies. All pages must be numbered clearly and sequentially. The application must be typed double-spaced on one side of plain 8½″ x 11″ white paper, using at least a 12 point font, and contain 1″ margins all around.

Electronic submissions through the Grants.gov Web site Portal provides for applications to be submitted electronically. Information about the system is available on the Grants.gov Web site. Applications submitted by facsimile transmission (FAX) or any other electronic format will not be accepted. OPHS will not acknowledge receipt of applications. Applications received after the exact date and time specified for receipt will not be accepted. Applications which do not meet the deadline will be returned to the applicant unread.

Applications will be screened upon receipt. Those that are judged to be incomplete or arrive after the deadline will not be reviewed. Applications that exceed the specified amount for a twelve-month budget period may also not be reviewed. Applicants that are judged to be in compliance will be reviewed for technical merit in accordance with DHHS policies. Applications will be evaluated by a technical review panel composed of experts in the fields of program management, service delivery, outreach, health education, research, and leadership development and evaluation. Consideration for award will be given to applicants that best demonstrate progress and/or plausible strategies for eliminating health disparities through the integration of training, leadership/career development, public education and outreach, comprehensive services that include gender and age-appropriate preventive services, and research. Applicants are advised to pay close attention to the specific program guidelines and general instructions in the application kit.

4. Intergovernmental Review: This program is subject to the Public Health Systems Reporting Requirements. Under these requirements, a community-based non-governmental applicant must prepare and submit a Public Health System Impact Statement (PHIS). Applicants shall submit a copy of the application face page (SF-424) and a one page summary of the project, called the Public Health System Impact Statement. The PHIS is intended to provide information to State and local health officials to keep them apprized on proposed health services grant applications submitted by community-based, non-governmental organizations within their jurisdictions.

This program is also subject to the requirements of Executive Order 12372 that allows States the option of setting up a system for reviewing applications from within their States for assistance under certain Federal programs. The application kit to be made available under this notice will contain a listing of States that have chosen to set up a review system and will include a State Single Point of Contact (SOC) in the State for review. Applicants (other than federally recognized Indian tribes) should contact their SPECS as early as possible to alert them to the prospective applications and receive any necessary instructions on the State process. For proposed projects serving more than one State, the applicant is advised to contact the SOC in each affected State. A complete list of SPECS may be found at the following Web site: http://www.whitehouse.gov/omb/grants/spoc.html. The due date for State process recommendations is 60 days after the application deadline. The OWH does not guarantee that it will accommodate or explain its responses to State process recommendations received after that date. (See “Intergovernmental Review of Federal Programs,” Executive Order 12372, and 45 CFR part 100 for a description of the review process and requirements.)

Community-based, non-governmental applicants are required to submit, no later than the Federal due date for receipt of the application, the following information to the head of the appropriate State and local health agencies in the area(s) to be impacted: (a) A copy of the face page of the application (SF 424), (b) a summary of the project (PHIS), not to exceed one page, which provides: (1) A description of the population to be served, (2) a summary of the services to be provided, and (3) a description of the coordination planned with the appropriate state or local health agencies. Copies of the letters forwarding the PHIS to these authorities must be contained in the application materials submitted to the OWH.

5. Funding Restrictions: A majority of the funds must be used to support staff (direct labor) and efforts aimed at coordinating and integrating the components of the program and travel to the two Annual Center Directors' Meetings per year . The senior person responsible for the program shall continue to devote the maximum effort needed to maintain program excellence. Funds may also be used for program related travel.

Funds may not be used for construction, building alterations, equipment, printing, food, medical treatment, or renovations. All budget requests must be justified fully in terms of the proposed goals and objectives and include an itemized computational explanation/breakout of how costs were determined.

The CoE and CCOE Center Directors meet twice a year. A portion of these meetings will be devoted to the Ambassadors for Change program. The budget should include a request for funds to pay for the travel, lodging, and meals for the two Center Directors' meetings. The first meeting is usually held between mid-November and mid-December and the second Center Directors' meeting is usually held in May. This year the joint Center Directors' meetings will be held November 7-8, 2005. CCOE Center Directors are encouraged to bring the person with primary responsibility for the day-to-day management of the Ambassador for Change program to these meetings and should include their travel cost in the budget.

6. Other Submission Requirements: Beginning October 1, 2003, all applicants are required to obtain a Data Universal Numbering System (DUNS) number as preparation for doing business electronically with the Federal Government. The DUNS number must be obtained prior to applying for OWH funds. The DUNS number is a nine-character identification code provided by the commercial company Dun & Bradstreet, and serves as a unique identifier of business entities. There is no charge for requesting a DUNS number, and you may register and obtain a DUNS number by either of the following methods: telephone: 1-866-705-5711. Web site: http://www.dnb.com/product/eupdate/requestOptions.html.

Be sure to click on the link that reads, “DUNS Number Only” at the right hand, bottom corner of the screen to access the free registration page. Please note that registration via the Web site may take up to 30 business days to complete.

V. Application Review Information

1. Criteria: The technical review of applications will consider the following factors:

Factor 1: Level of Integration of the Components and Gender-Based Medicine at the Institution (30%)

The CoE/CCOE Ambassadors for Change Program model shall include: (a) Training for professional, allied health, and lay health care workers serving underserved diverse women, (b) leadership/career development for women providers and underserved women/girls in the community, including American Indian or Alaska Native, Black or African American, Hispanic or Latino, Asian, and Native Hawaiian or Other Pacific Islander women/girls, (c) outreach and public education, (d) comprehensive multi-disciplinary women's health services that include gender and age-appropriate preventive services, (e) gender-based research originating at the institution or involved with the CoE/CCOE Research Coordinating Center. All components shall be in place/operational and integrated with one another at the time the application is submitted. The applicant must discuss/describe the resources available to support each component, plans for maintaining components, and the relationship of each integrated component to the overall goals and objectives of the CoE/CCOE Ambassador for Change program.

Factor 2: Partnerships (25%)

The CoE or CCOE shall maintain existing partnership and develop new ones within their region and neighboring regions and with government-sponsored agencies and organizations:

• The Regional Women's Health Coordinator in their region. The RWHCs and contact information can be found at http://www.4woman.gov/owh/reg/.

• The Minority Women's Health Panel of Experts (if there is one in their region). The MWHPEs and contact information can be found at http://www.4woman.gov/owh/minority.htm#mwhpe.

• DHHS agencies (HRSA, OMH/OPHS, IHS, NIH, CDC, FDA, etc.).

• Other government agencies and State and local governments.

The partnerships shall work towards:

• Improving diversity at their institution regarding populations served, culturally competent materials and center staff, and

• Continuing to transform the programs through leadership, outreach especially to adolescents and elderly women, prevention programs on heart disease, diabetes/obesity, cancer, HIV/AIDS, mental health, and violence against women, and underserved women, including the American Indian population.

Factor 3: Agreement to Serve as a Technical Consultant to Other Sites on Your Most Successful Component (20%)

A clear statement of willingness to provide technical consultation to other academic health centers interest in the CoE model or other community-based organizations interested in the CCOE model could include work with the Executive Leadership in Academic Medicine Program, a promotoras training program, presentations at CoE and CCOE Center Directors' meetings, technical assistance visits to other CoE/CCOE sites, etc.

Factor 4: Evaluation (15%)

The CoE or CCOE shall have in place an ongoing program of process, impact, and outcome evaluation. In addition, a clear statement of agreement to participate fully in any national program evaluations must be included in the application.

Factor 5: Degree of Self-Sustainment at the Parent Institution (10%)

Applicant organization's capability to manage the project as determined by the qualifications of the proposed staff; proposed staff level of effort; the institutional commitment demonstrated in the application; management experience of the staff; and the experience, resources and role of each partner organization as it relates to the needs and programs/activities of the CoE/CCOE Ambassador for Change program, diversity of the CoE/CCOE staff as it relates to and reflects the community and populations served, integration of allied health professionals into the CoE/CCOE program, and integration of the CoE/CCOE advisory board into the program's activities. Detailed position descriptions, resumes of key staff, a staffing diversity chart, and letter of support from key institutional administrator should be included in the appendix. The management plan should also describe succession planning for key personnel and cross training of responsibilities. Thoughtful succession planning and cross training of responsibilities should contribute to the sustainability of the program and provide promotion potential.

2. Review and Selection Process: Accepted applications will be reviewed for technical merit in accordance with DHHS policies. Applications will be evaluated by a technical review panel composed of experts in the fields of program management, academic/community service delivery, outreach, health education, research, and leadership development and evaluation. Consideration for award will be given to applicants that meet the goals and review criteria of the CoE/CCOE Ambassadors for Change programs.

Funding decisions will be made by the OWH, and will take into consideration the recommendations and ratings of the review panel, program needs, stated preferences, and the organization's women's health experience.

VI. Award Administration Information

1. Award Notices: Within a month of the review of all applications, applicants not scoring in the funding range will receive a letter stating that they have not been recommended for funding. Applicants selected for funding support will receive a Notice of Grant Award signed by the grants officer. This is the authorizing document to begin performing grant activities and it will be sent electronically and followed up with a mailed copy. Pre-award costs are not supported by the OWH.

2. Administrative and National Policy Requirements: (1) In accepting this award, the grantee stipulates that the award and any activities thereunder are subject to all provisions of the 45 CFR parts 74 and 92, currently in effect or implemented during the period of this grant. Requests that require prior approval from the awarding office (see Chapter 8, PHS Grants Policy Statement) must be submitted in writing to the OPHS Grants Management Office. Only responses signed by the Grants Management Officer are to be considered valid. Grantees who take action on the basis of responses from other officials do so at their own risk. Such responses will not be considered binding by or upon the OWH. (2) Responses to reporting requirements, conditions, and requests for post-award amendments must be mailed to the Office of Grants Management at the address indicated below in “Agency Contacts.” All correspondence requires the signature of an authorized business official and/or the project director. Failure to follow this guidance will result in a delay in responding to your correspondence. (3) The DHHS Appropriations Act requires that, when issuing statements, press releases, requests for proposals, bid solicitations, and other documents describing projects or programs funded in whole or in part with Federal money, the issuance shall clearly state the percentage and dollar amount of the total costs of the program or project that will be financed with Federal money and the percentage and dollar amount of the total costs of the project or program that will be financed by nongovernmental sources. (4) A notice in response to the President's Welfare-to-Work Initiative was published in the Federal Register on May 16, 1997. This initiative is designed to facilitate and encourage grantees to hire welfare recipients and to provide additional training and/or mentoring as needed. The text of the notice is available electronically on the OMB home page at http://www.whitehouse.gov/wh/eop/omb.

3. Reporting: In addition to those listed above, a successful applicant will submit an annual technical report that includes a detailed discussion of the process, impact, outcome evaluation of the Ambassador program and a Financial Status Report in accordance with provisions of the general regulations which apply under “Monitoring and Reporting Program Performance,” 45 CFR parts 74 and 92. An original and two copies of the annual report must be submitted by August 15. The annual report will serve as the non-competing continuation application and must cover all activities for the entire budget year. Therefore, this report must also include the budget request for the next grant year, with appropriate justification, and signatures, and be submitted using Form PHS 5161.

VII. Agency Contact(s)

For application kits and information on budget and business aspects of the application, please contact: Office of Grants Management, Office of Public Health and Science, Department of Health and Human Services, 1101 Wootten Parkway, Suite 550, Rockville, MD 20857. Telephone: (310) 594-0758.

Questions regarding programmatic information and/or requests for technical assistance in the preparation of the grant application by CCOEs should be directed in writing to Ms. Barbara James, Director, National Community Centers of Excellence in Women's Health Program, 5600 Fishers Lane, Room 16A-55, Rockville, MD 20859. Telephone: (301) 443-1402. E-mail: bjames1@osophs.dhhs.gov. Questions from the CoEs should be directed to Ms. Eileen Newman, Public Health Analyst at the same address. Her e-mail is enewman@osophs.dhhs.gov.

VIII. Other Information

Fourteen (14) CCOE programs are currently funded by the OWH. Information about these programs may be found at the following Web site: http://www.4woman.gov/owh/CCOE/index.htm. Twenty-one (21) CoE programs are currently funded by the OWH. Information about these programs may be found at the following Web site: http://www.4woman.gov/COE/index.htm.

Dated: June 15, 2005.
Wanda K. Jones,
Deputy Assistant Secretary for Health (Women's Health), Office of Public Health and Science.

[FR Doc. 05-12518 Filed 6-23-05; 8:45 am]

BILLING CODE 4150-33-P